DEPARTMENT OF THE TREASURY

Bureau of Alcohol, Tobacco and Firearms

27 CFR Parts 4, 5, 7 and 13

[Notice No. 964; Ref: T.D. ATF-483, Notice No. 954]

RIN 1512-AC87

Organic Claims in Labeling and Advertising of Alcohol Beverages (2002R-288P)

AGENCY: Bureau of Alcohol, Tobacco and Firearms (ATF), Treasury.

ACTION: Notice of proposed rulemaking; reopening of comment period.

SUMMARY: ATF reopens the comment period for Notice No. 954, a notice of proposed rulemaking published in the Federal Register on October 8, 2002. The proposed rule would amend our alcohol labeling and advertising rules to cross-reference the United States Department of Agriculture's National Organic Program rules. We are acting on a request to extend the comment period in order to provide sufficient time for all interested parties to respond to the issues raised in the notice.

DATES: Written comments must be received on or before March 27, 2003.

ADDRESSES: You may send comments to any of the following addresses:

• Chief, Regulations Division, Bureau of Alcohol, Tobacco and Firearms, P.O. Box 50221, Washington, DC 20091-0221 (Attn: Notice No. 954);

• 202-927-8525 (Facsimile);

• nprm@atfhq.atf.treas.gov (E-mail);

• http://www.atf.treas.gov (A comment form is available with the online copy of this notice.)

You may view copies of the temporary regulations, the notice of proposed rulemaking, the request for extension, and any comments received on the notice by appointment at the ATF Reference Library, Room 6480, 650 Massachusetts Avenue, NW., Washington, DC 20226, or at http://www.atf.treas.gov with the online copy of Notice No. 954.

FOR FURTHER INFORMATION CONTACT: Richard Evanchec, Alcohol Labeling and Formulation Division, Bureau of Alcohol, Tobacco & Firearms, 650 Massachusetts Avenue, NW., Washington, DC 20226; telephone 202-927-8140; e-mail RJEvanchec@atfhq.atf.treas.gov.

SUPPLEMENTARY INFORMATION:

Background

On October 8, 2002, ATF published a temporary rule (T.D. ATF-483, 67 FR 62856) to amend the alcohol labeling and advertising rules to cross-reference the United States Department of Agriculture's (USDA) National Organic Program (NOP) rules, which took effect October 21, 2002. Any alcohol beverage labeled or advertised with an organic claim must comply with both NOP rules administered by USDA and the applicable rules administered by ATF.

At the same time, we published a notice of proposed rulemaking (Notice No. 954, 67 FR 62860) to solicit comments on the temporary rule. The original comment period for Notice No. 954 closed on December 9, 2002.

Before the close of the original comment period, ATF received a request from the Wine Institute, a trade association, to extend the comment period for an additional 90 days. The Wine Institute, representing producers of 90% of the wine made in California, requested the extension in order to provide thoroughly researched comments that have been fully discussed among their members.

In consideration of the above, ATF finds that a reopening of the comment period is warranted.

Public Participation

See the “Public Participation” section of Notice No. 954 for detailed instructions on submitting and reviewing comments. Comments received on or before the new closing date will be carefully considered.

ATF will not recognize any submitted material as confidential and comments may be disclosed to the public. Any material that the commenter considers confidential or inappropriate for disclosure to the public should not be included in the comments. The name of the person submitting a comment is not exempt from disclosure.

Drafting Information

Marjorie Ruhf of the Regulations Division, Bureau of Alcohol, Tobacco & Firearms, drafted this notice.

List of Subjects

27 CFR Part 4

Advertising, Customs duties and inspection, Imports, Labeling, Packaging and containers, Reporting and recordkeeping requirements, Trade practices, Wine.

27 CFR Part 5

Advertising, Consumer protection, Customs duties and inspection, Imports, Labeling, Liquors, Packaging and containers.

27 CFR Part 7

Advertising, Beer, Customs duties and inspection, Imports, Labeling, Reporting and recordkeeping requirements, Trade practices.

27 CFR Part 13

Administrative practice and procedure, Alcohol and alcoholic beverages, Labeling.

Authority and Issuance

Notice No. 954 was issued under the authority of 27 U.S.C. 205.

Signed: December 18, 2002.
Bradley A. Buckles,
Director.

[FR Doc. 02-32614 Filed 12-26-02; 8:45 am]

BILLING CODE 4810-31-P